DEPARTMENT OF THE TREASURY

Internal Revenue Service

26 CFR Part 301

[TD 9687]

RIN 1545-BL08

Awards for Information Relating to Detecting Underpayments of Tax or Violations of the Internal Revenue Laws; Correction

AGENCY: Internal Revenue Service (IRS), Treasury.

ACTION: Correcting amendments.

SUMMARY: This document contains corrections to final regulations (TD 9687) that were published in the Federal Register on Tuesday, August 12, 2014 (79 FR 47246). The final regulations provide comprehensive guidance for the award program authorized under Internal Revenue Code (Code) section 7623.

DATES: This correction is effective on September 26, 2014, and is applicable beginning August 12, 2014.

FOR FURTHER INFORMATION CONTACT: Melissa A. Jarboe at (202) 317-5437 (not a toll-free number).

SUPPLEMENTARY INFORMATION:

Background

The final regulation (TD 9687) that is the subject of this correction is under section 7623.

Need for Correction

As published, final regulations (TD 9687) contain errors that may prove to be misleading and are in need of clarification.

List of Subjects in 26 CFR Part 301

Employment taxes, Estate taxes, Excise taxes, Gift taxes, Income taxes, Penalties, Reporting and recordkeeping requirements.

Correction of Publication

Accordingly, 26 CFR part 301 is amended by making the following correcting amendments:

PART 301—PROCEDURE AND ADMINISTRATION

Paragraph 1. The authority citation for part 301 continues to read in part as follows:

Authority: 26 U.S.C. 7805 * * *

Par. 2. § 301.7623-2 is amended by revising paragraph (d)(4).

§ 301.7623-2 Definitions.

* * * * *

(d) * * *

(4) Criminal fines. Criminal fines deposited into the Crime Victims Fund are not collected proceeds and cannot be used for payment of awards.

* * * * *

Martin V. Franks,
Chief, Publications and Regulations Branch, Legal Processing Division, Associate Chief Counsel (Procedure and Administration).

[FR Doc. 2014-22952 Filed 9-25-14; 8:45 am]

BILLING CODE 4830-01-P